DEPARTMENT OF THE INTERIOR

Bureau of Land Management

[WY-950-7130-EU-9766; WYW-139340]

Realty Action; Direct Sale of Public Lands; Wyoming

AGENCY: Bureau of Land Management, Interior.

ACTION: Notice of realty action; direct sale of public lands in Sweetwater County.

SUMMARY: The Bureau of Land Management has determined that the lands described below are suitable for public sale under section 203 of the Federal Land Policy and Management Act of 1976, 43 U.S.C. 1713:

Sixth Principal Meridian

T. 18 N., R. 107 W., section 34, lot 1.

The above lands aggregate 0.06 acre.

FOR FURTHER INFORMATION CONTACT: Becky Heick, Realty Specialist, Bureau of Land Management, Rock Springs Field Office, 280 Highway 191 North, Rock Springs, Wyoming 82901, 307-352-0344.

SUPPLEMENTARY INFORMATION: The Bureau of Land Management proposes to sell the surface estate of the above land to Mr. David Palmer, an adjacent landowner, by direct sale, at fair market value. The disposal of this land will allow for the development of a subdivision lot, in which the 0.06 acre of land will provide the required set back distances for a dwelling.

The proposed sale is consistent with the Green River Resource Management Plan and would serve important public objectives which cannot be achieved prudently or feasibly elsewhere. The lands contain no other known public values. The planning document and environmental assessment covering the proposed sale are available for review at the Bureau of Land Management, Rock Springs Field Office Office, Rock Springs, Wyoming.

Conveyance of the above public lands will be subject to:

1. Reservation of a right-of-way to the United States for ditches and canals pursuant to the Act of August 30, 1890, 43 U.S.C. 945.

2. Reservation of all minerals pursuant to section 209(a) of the Federal Land Policy and Management Act of 1976, 43 U.S.C. 1719.

There will be no decrease of federal acres or AUMs within the Rock Springs Grazing Allotment due to the small size of the subject parcel.

Upon publication of this notice in the Federal Register, the above described land will be segregated from all forms of appropriation under the public land laws, including the general mining laws, except for leasing under the mineral leasing laws.

For a period of 45 days after issuance of this notice, interested parties may submit comments to the Field Manager, Rock Springs Field Office, Bureau of Land Management, 280 Hwy. 191 North, Rock Springs, WY. Any adverse comments will be evaluated by the State Director who may sustain, vacate, or modify this realty action. In the absence of any objections, this proposed realty action will become final.

Dated: May 3, 2000.
Ted Murphy,
Acting Field Manager.

[FR Doc. 00-12332 Filed 5-16-00; 8:45 am]

BILLING CODE 4310-22-P